DEPARTMENT OF COMMERCE

National Oceanic and Atmospheric Administration

RIN 0648-XD481

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting of its Scientific and Statistical Committee (SSC) sub-Working Group to review and discuss the 2014 draft Stock Assessment Update for the Main Hawaiian Islands Deep-7 Bottomfish Complex through 2013 with Projected Annual Catch Limits (ACLs) through 2016. The sub-group would also review the comments of the Center for Independent Experts (CIE) on the Biomass-Augmented Catch-Maximum Sustainable Yield (BAC-MSY) model used for developing reference points for ACL specification.

DATES: The SSC sub-Working Group meeting will be held on September 17, 2014 at 1 p.m. See SUPPLEMENTARY INFORMATION for agenda.

ADDRESSES: The SSC sub-Working Group meeting will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment opportunity will be provided. The order in which agenda items are addressed may change. The meeting will run as late as necessary to complete scheduled business.

Schedule and Agenda for the SSC Sub-Working Group Meeting

1 p.m., Wednesday, September 17, 2014

1. Welcome and Introductions

2. Approval of the Agenda

3. Review of SSC Comments on Draft 2014 Stock Assessment Update and Projected ACLs

4. Pacific Islands Fisheries Science Center Response to SSC Comments

5. Review of CIE Comment on Biomass Augmented Catch MSY model

6. Public Comments

7. Discussion and Recommendations

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 29, 2014.
Tracey L. Thompson,
Acting Deputy Director, Office of Sustainable Fisheries, National Marine Fisheries Service.

[FR Doc. 2014-21017 Filed 9-3-14; 8:45 am]

BILLING CODE 3510-22-P